DEPARTMENT OF TRANSPORTATION

Federal Transit Administration

[FTA Docket No. FTA-2013-0020]

Agency Information Collection Activity Under OMB Review

AGENCY: Federal Transit Administration, DOT.

ACTION: Notice of request for comments.

SUMMARY: The Federal Transit Administration invites public comment about our intention to request the Office of Management and Budget's (OMB) approval of the following new information collections:

49 U.S.C. Section 5307—Capital Assistance Program and Section 5309—Urbanized Area Formula Program;

49 U.S.C. Section 5310—Capital Assistance Program for Elderly Persons and Persons with Disabilities and Section 5311—Nonurbanized Area Formula.

The information collected is necessary to determine eligibility of applicants and ensure the proper and timely expenditure of federal funds within the scope of each program. The Federal Register notice with a 60-day comment period soliciting comments was published on February 6, 2013 (Citation 78 FR 8690). No comments were received from that notice.

DATES: Comments must be submitted before May 22, 2013. A comment to OMB is most effective if OMB receives it within 30 days of publication.

FOR FURTHER INFORMATION CONTACT: LaStar Matthews, Office of Administration, Office of Management Planning, (202) 366-2295.

SUPPLEMENTARY INFORMATION:

Title: 49 U.S.C. Section—5307 Capital Assistance Program and Section 5309—Urbanized Area Formula Program;

(OMB Number: 2132-0502).

Abstract: 49 U.S.C. Section 5307—Capital Assistance Program and Section 5309—Urbanized Area Formula Program authorize the Secretary of Transportation to make grants to State and local governments and public transportation authorities for financing mass transportation projects. In response to requirements authorized by the new legislation, Moving Ahead for Progress in the 21st Century (MAP-21), a Passenger Ferry Grant Program has been added under 49 U.S.C. 5307. The Passenger Ferry Grant Program is a new discretionary grant program that will award funding on a competitive selection basis. Grant recipients for 49 U.S.C. Sections 5307 and 5309 are required to make information available to the public and publish a program of projects for affected citizens to comment on the proposed program and performance of the grant recipients at public hearings. Notices of hearings must include a brief description of the proposed project and be published in a newspaper circulated in the affected area. FTA also uses the information to determine eligibility for funding and to monitor the progress of the grantee in implementing and completing project activities. The information submitted ensures FTA's compliance with applicable federal laws, OMB Circular A-102 and 49 CFR part 18, “Uniform Administrative Requirements for Grants and C9ooperative Agreements with State and Local Governments.”

Respondents: State and local government, business or other for-profit institutions and non-profit institutions.

Estimated Annual Burden on Respondents: Approximately 50 hours for each of the 3,345 respondents.

Estimated Total Annual Burden: 167,250 hours.

Frequency: Annual.

Title: 49 U.S.C. Section 5310—Capital Assistance Program for Elderly Persons and Persons with Disabilities and Section 5311—Nonurbanized Area Formula Program; (OMB Number 2132-0500).

Abstract: 49 U.S.C. Section 5310—Capital Assistance Program for Elderly Persons and Persons with Disabilities provides financial assistance for the specialized transportation service needs of elderly persons and persons with disabilities in all areas, urbanized, small urban and rural. 49 U.S.C. 5311—Nonurbanized Area Formula Program provides financial assistance for the provision of public transportation services in nonurbanized areas. Both programs are administered by the State. The Tribal Transit Program, which was approved as a separate program under the American Recovery and Reinvestment Act (ARRA), is now being added under 49 U.S.C. 5311. Under the new legislation, Moving Ahead for Progress in the 21st Century (MAP-21), the Tribal Transit Program continues to be a set-aside from the rural area formula program (Section 5311), but now consists of a $25 million formula program and a $5 million discretionary grant program. This program no longer provides a single apportionment to the State. It now provides apportionments specifically for large urbanized, small urbanized and rural areas and will require new designations in large urbanized areas. MAP-21 also expands the eligibility provisions to include operating expenses.

49 U.S.C. 5310 and 5311 authorize FTA to review applications for federal financial assistance to determine eligibility and compliance with statutory and administrative requirements. The applications must contain sufficient information to enable FTA to make the findings required by law to enforce the requirements of the programs. Information collected during the project management stage provides a basis for monitoring approved projects to ensure timely and appropriate expenditure of federal funds by grant recipients.

Respondents: State and local government, business or other for-profit institutions and non-profit institutions and small business organizations.

Estimated Annual Burden on Respondents: Approximately 111 hours for each of the 178 respondents.

Estimated Total Annual Burden: 20,775 hours.

Frequency: Annual.

Issued: April 15, 2013.
Matthew M. Crouch,
Deputy Administrator for Administration.

[FR Doc. 2013-09332 Filed 4-19-13; 8:45 am]

BILLING CODE P